LIBRARY OF CONGRESS

Copyright Royalty Board

37 CFR Part 351

[Docket No. 21-CRB-0007-RM]

Copyright Royalty Board Regulations Regarding the Conduct of Proceedings

AGENCY: Copyright Royalty Board, Library of Congress.

ACTION: Final rule.

SUMMARY: The Copyright Royalty Judges are amending regulations to clarify that their hearings may be conducted in person at the Library of Congress or an alternative location, or virtually, at the Judges' discretion.

DATES: Effective June 11, 2021.

ADDRESSES: Docket: For access to the docket to read background documents or comments received, go to eCRB at https://app.crb.gov and perform a case search for docket 21-CRB-0007-RM.

FOR FURTHER INFORMATION CONTACT: Anita Blaine, CRB Program Specialist, at 202-707-7658 or crb@loc.gov.

SUPPLEMENTARY INFORMATION: On February 26, 2021, the Copyright Royalty Judges (Judges) published a notice of proposed rulemaking (notice) in the Federal Register seeking comments on a proposed rule to codify the fact that future hearings may be conducted physically, either at the Library of Congress or an alternative location, or virtually, at the Judges' discretion. 86 FR 1163 (Feb. 26, 2021). The Judges received one comment, from SoundExchange, a regular participant in Copyright Royalty Board proceedings, in favor of the proposed rule. SoundExchange cites to past hearings that the Judges conducted, in coordination and consultation with the participants, in alternate locations and virtually. It also anticipates the possibility that virtual hearings could make sense in the future, and notes that the proposed rule provides flexibility regarding the virtual platform. Therefore, for the reasons indicated in the February 26, 2021 notice, the Judges adopt the proposed changes to part 351, as detailed in this final rule.

List of Subjects in 37 CFR Part 351

Administrative practice and procedure, Copyright.

Final Regulations

For the reasons set forth in the preamble, the Copyright Royalty Judges amend 37 CFR 351 as follows:

PART 351—PROCEEDINGS

1. The authority citation for part 351 continues to read:

Authority: 17 U.S.C. 803.

2. Revise § 351.9(a) to read as follows:

§ 351.9 Conduct of hearings.

(a)(1) By panels. Subject to paragraph (b) of this section, hearings will be conducted by Copyright Royalty Judges sitting en banc.

(2) Location. Hearings will be conducted in person at the Library of Congress or an alternative location, or virtually, at the Judges' discretion.

* * * * *

Dated: May 17, 2021.
Jesse M. Feder,
Chief Copyright Royalty Judge.
Approved by:
Carla D. Hayden,
Librarian of Congress.

[FR Doc. 2021-12312 Filed 6-10-21; 8:45 am]

BILLING CODE 1410-72-P